DEPARTMENT OF ENERGY

Federal Energy Regulatory Commission

[Project No. 2740-053]

Duke Energy Carolinas, LLC; Notice of Intent To File License Applications, Filing of Pre-Application Document (Pad), Commencement of Pre-Filing Process, Request for Comments on the Pad and Scoping Document, Identification of Issues and Associated Study Requests, and Virtual Public Scoping Meetings and Virtual Environmental Site Reviews

a. Type of Filing: Notice of Intent to File License Application for New License and Commencing Pre-filing Process.

b. Project No.: 2740-053.

c. Date Filed: February 23, 2022.

d. Submitted By: Duke Energy Carolinas, LLC (Duke Energy).

e. Name of Project: Bad Creek Pumped Storage Project (Bad Creek Project).

f. Location: Oconee County, South Carolina.

g. Filed Pursuant to: 18 CFR part 5 of the Commission's Regulations.

h. Licensee Contact: Alan Stuart, Licensing Manager, Duke Energy, Mail Code EC-12Q 526 S. Church Street, Charlotte, NC 28202; (803) 640-8765; alan.stuart@duke-energy.com.

i. FERC Contact: Navreet Deo at (202) 502-6304, or email at navreet.deo@ferc.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC 61,076 (2001).

k. With this notice, we are initiating informal consultation with: (a) The U.S. Fish and Wildlife Service and/or NOAA Fisheries under section 7 of the Endangered Species Act and the joint agency regulations thereunder at 50 CFR, Part 402; and (b) the State Historic Preservation Officer, as required by section 106, National Historic Preservation Act, and the implementing regulations of the Advisory Council on Historic Preservation at 36 CFR 800.2.

l. With this notice, we are designating Duke Energy as the Commission's non-federal representative for carrying out informal consultation, pursuant to section 7 of the Endangered Species Act and section 106 of the National Historic Preservation Act.

m. Duke Energy filed with the Commission a Pre-Application Document (PAD; including a proposed process plan and schedule), pursuant to 18 CFR 5.6 of the Commission's regulations.

n. In addition to publishing the full text of this document in the Federal Register, the Commission provides all interested persons an opportunity to view and/or print the contents via the internet through the Commission's Home Page (http://www.ferc.gov), using the “eLibrary” link. Enter the docket number(s), excluding the last three digits in the docket number field, to access the document. At this time, the Commission has suspended access to the Commission's Public Reference Room, due to the proclamation declaring a National Emergency concerning the Novel Coronavirus Disease (COVID-19), issued by the President on March 13, 2020, and continued on February 24, 2021. For assistance, contact FERC Online Support at FERCOnlineSupport@ferc.gov, or call toll-free, (866) 208-3676 or TYY, (202) 502-8659.

Register online at http://www.ferc.gov/docs-filing/esubscription.asp to be notified via email of new filings and issuances related to these or other pending projects. For assistance, contact FERC Online Support.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from Commission staff related to the merits of the potential applications must be filed with the Commission.

The Commission strongly encourages electronic filing. Please file all documents using the Commission's eFiling system at http://www/ferc.gov/docs-filing/efiling.asp. Commenters can submit brief comments up to 6,000 characters, without prior registration, using the eComment system at http://www.ferc.gov/docs-filing/ecomment.asp. You must include your name and contact information at the end of your comments. For assistance, please contact FERC Online Support at: FERCOnlineSupport@ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by June 23, 2022.

p. Scoping Process.

The Commission's scoping process will help determine the required level of analysis and satisfy the NEPA scoping requirements, irrespective of whether the Commission prepares an environmental assessment or Environmental Impact Statement. Due to recent concerns with large gatherings related to COVID-19, we do not intend to hold in-person public scoping meetings or an in-person environmental site review. Rather, we will hold virtual public scoping meetings and a virtual environmental site reviews.

Scoping Meetings

Commission staff will hold two virtual public scoping meetings. An evening meeting will focus on receiving input from the public and a daytime meeting will focus on concerns of resource agencies, Native American tribes, and NGOs. We invite all interested agencies, Native American tribes, NGOs, and individuals to attend one of these meetings to assist us in identifying the scope of environmental issues that should be analyzed in the NEPA document. The scoping meetings will be recorded by a court reporter. All oral and written comments will become part of the Commission's public record. Oral comments will be limited to 5 minutes in duration.

Date and Time

Meeting for the General Public

Monday, May 16, 2022

7:00 p.m.-9:00 p.m. EDT

Call in number: 800-779-8625

Participant passcode: 3472916

Meeting for Resource Agencies, Tribes, and NGOs

Tuesday, May 17, 2022

10:00 a.m.-12:00 p.m. EDT

Call in number: 800-779-8625

Participant passcode: 3472916

Scoping Document 1 (SD1), which outlines the subject areas to be addressed in the environmental document, was mailed to the individuals and entities on the Commission's mailing list and Duke Energy's mailing list. Copies of SD1 may be viewed on the web at http://www.ferc.gov, using the “eLibrary” link. Follow the directions for accessing information in paragraph n. Based on all oral and written comments, a Scoping Document 2 (SD2) may be issued. SD2 may include a revised process plan and schedule, as well as a list of issues, identified through the scoping process.

Environmental Site Review

Duke Energy and Commission staff will hold two virtual Environmental Site Reviews of the Bad Creek Project on May 16, 2022, starting at 6:00 p.m., and May 17, 2022 at 9:00 a.m. Please contact Alan Stuart of Duke Energy at (803) 640-8765, or alan.stuart@duke-energy.com, by May 9, 2022 if you plan to attend the environmental site review. Meeting details will be provided by Duke Energy staff once attendance is confirmed.

Meeting Objectives

At the scoping meetings, staff will: (1) Briefly describe the relicensing process, as well as the projects and their operation; (2) initiate scoping of the issues; (3) review existing information and identify preliminary information and study needs; and (4) review the process plan and schedule for pre-filing activities. Meeting participants should come prepared to discuss their issues and/or concerns. Please review the PAD in preparation for the scoping meetings. Directions on how to obtain a copy of the PAD and SD1 are included in item n of this notice.

Dated: April 22, 2022.
Debbie-Anne A. Reese,
Deputy Secretary.

[FR Doc. 2022-09116 Filed 4-27-22; 8:45 am]

BILLING CODE 6717-01-P